INTERNATIONAL TRADE COMMISSION

[USITC SE-15-034]

Government in the Sunshine Act Meeting Notice

AGENCY HOLDING THE MEETING: United States International Trade Commission.

TIME AND DATE: October 20, 2015 at 11 a.m.

PLACE: Room 101, 500 E Street SW., Washington, DC 20436, Telephone: (202) 205-2000.

STATUS: Open to the public.

MATTERS TO BE CONSIDERED:

1. Agendas for future meetings: none.

2. Minutes

3. Ratification List

4. Vote in Inv. Nos. 701-TA-513 and 731-TA-1249 (Final) (Sugar from Mexico). The Commission is currently scheduled to complete and file its determinations and views of the Commission on November 2, 2015.

5. Vote in Inv. Nos. 701-TA-465 and 731-TA-1161 (Review) (Certain Steel Grating from China). The Commission is currently scheduled to complete and file its determinations and views of the Commission on October 29, 2015.

6. Outstanding action jackets: none

In accordance with Commission policy, subject matter listed above, not disposed of at the scheduled meeting, may be carried over to the agenda of the following meeting.

By order of the Commission.
Issued: October 8, 2015.
William R. Bishop,
Supervisory Hearings and Information Officer.

[FR Doc. 2015-26340 Filed 10-13-15; 11:15 am]

BILLING CODE 7020-02-P